DEPARTMENT OF TRANSPORTATION

Office of the Secretary

Certificates of Public Convenience and Necessity and Foreign Air Carrier Permits

Notice of Applications for Certificates of Public Convenience and Necessity and Foreign Air Carrier Permits Filed Under Subpart B (formerly Subpart Q) during the Week Ending March 9, 2013. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-28233.

Date Filed: March 5, 2013.

Due Date for Answers, Conforming Applications, or Motion to Modify Scope: March 26, 2013.

Description: Application of AirBridgeCargo Airlines, LLC (“ABC”) requesting an amendment of its foreign air carrier permit to engage in scheduled foreign air transportation of property and mail between a point or points in the Russian Federation, on the one hand, via intermediate points, and Houston, Texas; New York, New York; Atlanta, Georgia; Chicago, Illinois; Miami, Florida; Dallas/Fort Worth, Texas; and Los Angeles, California, on the other hand, and beyond. ABC also requests an exemption to engage in scheduled foreign air transportation of property and mail between a point or points in the Russian Federation, on the one hand, via intermediate points, and Miami, Florida; Dallas/Fort Worth, Texas; and Los Angeles, California, on the other hand, and beyond.

Barbara J. Hairston,
Acting Program Manager, Docket Operations, Federal Register Liaison.

[FR Doc. 2013-07372 Filed 3-28-13; 8:45 am]

BILLING CODE 4910-9X-P